DEPARTMENT OF HEALTH AND HUMAN SERVICES

National Committee on Vital and Health Statistics; Meeting

Pursuant to the Federal Advisory Committee Act, the Department of Health and Human Services announces the following advisory committee meeting.

Name: National Committee on Vital and Health Statistics (NCVHS), Subcommittee on Populations.

Time and Date: 9:30 a.m.-5:00 p.m., April 13, 2000; and 9:30 a.m.-2:00 p.m., April 14, 2000.

Place: Room 705A, Hubert H. Humphrey Building, 200 Independence Avenue, SW, Washington, DC 20201.

Status: Open.

Purpose: The Subcommittee on Populations is holding this meeting to continue its discussions on the potential use of measures of functional status on health records, such as enrollment in health plans, records of medical encounters, and standardized attachments to such records. Panelists will discuss issues related to the measurement, collection, and classification of information on functional status and the potential uses of functional status measures for administrative records and data systems. This is the second of several public meetings planned by the Subcommittee to explore these issues.

Notice: In the interest of security, the Department has instituted stringent procedures for entrance to the Hubert H. Humphrey building by non-government employees. Thus, persons without a government identification card will need to have the guard call for an escort to the meetings.

Contact Person for More Information: Substantive program inforamtion as well as summaries of meetings and a roster of committee members may be obtained from Carolyn Rimes, Lead Staff Person for the NCVHS Subcommittee on Populations, Office of Research and Demonstrations, Health Care Financing Administration, MS-C4-13-01, 7500 Security Boulevard, Baltimore, Maryland 21244-1850, telephone (410) 786-6620; or Marjorie S. Greenberg, Executive Secretary, NCVHS, NCHS, CDC, Room 1100, Presidential Building, 6525 Belcrest Road, Hyattsville, Maryland 20782, telephone (301) 458-4245. Information also is available on the NCVHS home page of the HHS website: http://www.ncvhs.hhs.gov/, where an agenda for the meeting will be posted when available.

Dated: March 22, 2000.
James Scanlon,
Director, Division of Data Policy, Office of the Assistant Secretary for Planning and Evaluation.

[FR Doc. 00-7868 Filed 3-29-00; 8:45 am]

BILLING CODE 4151-04-M